Title 3—

The President

Proclamation 7844 of November 9, 2004

Veterans Day, 2004

By the President of the United States of America

A Proclamation

Americans live in freedom because of our veterans' courage, dedication to duty, and love of country. On Veterans Day, we honor these brave men and women who have served in our Armed Forces and defended our Nation.

Across America, there are more than 25 million veterans. Their ranks include generations of citizens who have risked their lives while serving in military conflicts, including World War II, Korea, Vietnam, the Persian Gulf, and the war on terror. They have fought for the security of our country and the peace of the world. They have defended our founding ideals, protected the innocent, and liberated the oppressed from tyranny and terror. They have known the hardships and the fears and the tragic losses of war. Our veterans know that in the harshest hours of conflict they serve just and honorable purposes.

Through the years, our veterans have returned home from their duties to become active and responsible citizens in their communities, further contributing to the growth and development of our Nation. Their commitment to service inspires all Americans.

With respect for and in recognition of the contributions our service men and women have made to the cause of peace and freedom around the world, the Congress has provided (5 U.S.C. 6103(a)) that November 11 of each year shall be set aside as a legal public holiday to honor veterans.

NOW, THEREFORE, I, GEORGE W. BUSH, President of the United States of America, do hereby proclaim November 11, 2004, as Veterans Day and urge all Americans to observe November 7 through November 13, 2004, as National Veterans Awareness Week. I urge all Americans to recognize the valor and sacrifice of our veterans through ceremonies and prayers. I call upon Federal, State, and local officials to display the flag of the United States and to encourage and participate in patriotic activities in their communities. I invite civic and fraternal organizations, places of worship, schools, businesses, unions, and the media to support this national observance with commemorative expressions and programs.

IN WITNESS WHEREOF, I have hereunto set my hand this ninth day of November, in the year of our Lord two thousand four, and of the Independence of the United States of America the two hundred and twenty-ninth.

B

[FR Doc. 04-25367

Filed 11-10-04; 9:46 am]

Billing code 3195-01-P